OFFICE OF PERSONNEL MANAGEMENT

[Docket ID: OPM-2024-0009]

Submission for Review: Renewal of an Existing Information Collection, USAJOBS Resume Builder, Application Profile, and USAJOBS Career Explorer, OMB Control No. 3206-0219

AGENCY: Office of Personnel Management.

ACTION: 60-Day notice and request for comments.

SUMMARY: The Office of Personnel Management (OPM) offers the general public and other Federal agencies the opportunity to comment on revisions to a currently approved information collection request (ICR): OMB Control No. 3206-0219, USAJOBS Resume Builder, Application Profile, and Career Explorer.

DATES: Comments are encouraged and will be accepted until June 17, 2024.

ADDRESSES: Interested persons are invited to submit written comments on the proposed information collection by one of the following means:

• Federal eRulemaking Portal: https://www.regulations.gov.

All submissions received must include the agency name and docket number for this Federal Register document. The general policy for comments and other submissions from members of the public is to make these submissions available for public viewing on the internet at https://www.regulations.gov as they are received without change, including any personal identifiers or contact information.

FOR FURTHER INFORMATION CONTACT: A copy of this information collection request, with applicable supporting documentation, may be obtained by contacting the Human Resources Solution, Office of Personnel Management, 1900 E Street NW, Washington, DC 20415, Attention: Cori Schauer, or via electronic mail to usajobsengagement@opm.gov or 202-606-1800.

SUPPLEMENTARY INFORMATION: Under the Paperwork Reduction Act (PRA) (44 U.S.C. 3501-3520), Federal Agencies must obtain approval from the Office of Management and Budget (OMB) for each collection of information they conduct or sponsor. “Collection of information” is defined in 44 U.S.C. 3502(3) and 5 CFR 1320.3(c) and includes Agency requests or requirements that members of the public submit reports, keep records, or provide information to a third party. Section 3506(c)(2)(A) of the PRA requires Federal Agencies to provide a 60-day notice in the Federal Register concerning each proposed collection of information, including each proposed extension of an existing collection of information, before submitting the collection to OMB for approval. This notice complies with that requirement and solicits comments on the proposed ICR described below.

USAJOBS is the Federal Government's centralized source for most Federal jobs and employment information, including both positions that are required by law to be posted at that location and positions that can be posted there at an agency's discretion, see 5 U.S.C. 3327 and 3330. The Applicant Profile, Resume Builder, and Career Explorer are three components of the USAJOBS application system. USAJOBS reflects the minimal critical elements collected across the Federal Government to begin an application for Federal jobs under the authority of 5 U.S.C. 1104, 1302, 3301, 3304, 3320, 3361, 3393, and 3394, and Civil Service Rule II, codified at 5 CFR part 2. OPM proposes to renew a currently approved collection with revisions. A 32-question career quiz was added to aid job seekers in matching their skills to Federal job series. The quiz is voluntary. OPM is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Personnel Management.

Title: USAJOBS Resume Builder, Application Profile, and Career Explorer.

OMB Number: 3206-0219.

Frequency: Annually.

Affected Public: Individuals.

Number of Resumes built in one year: 27,015,663.

Estimated Time per Respondent: 38 Minutes.

Total Burden Hours: 17,109,920.

Office of Personnel Management.
Kayyonne Marston,
Federal Register Liaison.

[FR Doc. 2024-08041 Filed 4-15-24; 8:45 am]

BILLING CODE 6325-43-P